DEPARTMENT OF HEALTH AND HUMAN SERVICES

Health Resources and Services Administration

Availability of Funds

AGENCY: Health Resources and Services Administration (HRSA).

ACTION: General notice.

SUMMARY: HRSA announces the availability of funds for Fiscal Year 2002 competitive grant programs that were not included in the HRSA Preview which was published in the Federal Register (66 FR 42038) on August 9, 2001.

This notice contains a description of previously unannounced grant programs scheduled for awards in Fiscal Year 2002, and includes instructions on how to obtain information and application kits for all programs. Specifically, this notice contains the following information for each grant program: (1) Program title; (2) legislative authority; (3) purpose; (4) eligibility; (5) funding priorities and/or preferences (if any); (6) estimated dollar amount of competition; (7) estimated number of awards; (8) estimated average size of each award; (9) estimated project period; (10) Catalog of Federal Domestic Assistance (CFDA) identification number; (11) application availability date; (12) letter of intent deadline (if any); (13) application deadline; (14) projected award date; and (15) programmatic contact, with telephone and e-mail addresses.

Dated: January 11, 2002.
Elizabeth M. Duke,
Acting Administrator.

This notice describes funding and application deadlines for the following HRSA discretionary authorities and programs (application deadlines are also provided):

Health professions programs | Deadline dates
Physician Assistant Training in Primary Care | 3/11/2002
Predoctoral Training in Primary Care (Family Medicine, General Internal Medicine/General Pediatrics) | 4/03/2002
Residency Training in Primary Care (Family Medicine, General Internal Medicine/General Pediatrics) | 3/18/2002
Residencies in The Practice of Pediatric Dentistry and Residencies and Advanced Education in The Practice of General Dentistry | 3/25/2002
Academic Administrative Units in Primary Care (Family Medicine) | 4/08/2002
Faculty Development Training in Primary Care (Family Medicine, General Internal Medicine/General Pediatrics) | 3/25/2002
Public Health Training Centers Grant Program | 4/22/2002
Public Health Traineeship Grants | 3/11/2002
Health Education and Training Centers | 4/29/2002
Allied Health Projects | 3/04/2002
Geriatric Education Centers | 3/25/2002
Geriatric Academic Career Awards | 4/22/2002
Geriatric Training for Physicians, Dentists, and Behavioral and Mental Health Professionals | 4/03/2002
Quentin N. Burdick Program for Rural Interdisciplinary Training | 3/04/2002

To Obtain an Application Kit

Each program has a different application kit. To obtain an application kit call 1-877-477-2123 and request the kit by the CFDA number and the title of the grant program in which you are interested. You may also request application kits by e-mail at hrsagac@hrsa.gov. Application kits are generally available 60 days prior to application deadline. If kits are available earlier, they will be mailed immediately. The kits contain detailed instructions, background on the grant program, and other information, such as the applicability of Executive Order 12372 and 45 CFR part 100, and additional information pertinent to the intergovernmental review process, as appropriate. The application kit information collection requirements have been approved under OMB No. 0915-0060.

World Wide Web Access

Application materials are also available for downloading for some HRSA programs via the World Wide Web at: http://www.hrsa.gov/grants.htm. HRSA's goal is to post application forms and materials for all programs on the World Wide Web in future cycles. This HRSA grants site also tells you how to request application kits by mail.

Grant Terminology

Application Deadlines

Applications will be considered on time if they are received on or before the established deadline at the address specified in the application guidance given in the program announcement or in the application kit materials. Applications sent to any address other than that specified in the application guidance are subject to being returned.

Authorization

The citation of the law authorizing the various grant programs is provided immediately following the title of the programs.

CFDA Number

The Catalog of Federal Domestic Assistance (CFDA) is a Government-wide compendium of Federal programs, projects, services, and activities which provide assistance. Programs listed therein are given a CFDA Number. Be sure to use both the CFDA number and the title of the grant program when requesting an application kit. Note that CFDA numbers with alpha suffixes have different titles than the same CFDA numbers without suffixes.

Cooperative Agreement

A cooperative agreement rather than a grant is used when HRSA anticipates substantial Federal programmatic involvement with the recipient during performance of the project. The offering or application guidance materials will describe the nature of that involvement.

Eligibility

Eligibility is the status that an entity must possess to be qualified to apply for a grant. Authorizing legislation and programmatic regulations specify eligibility for individual grant programs. In general, assistance is provided to nonprofit organizations and institutions, State and local governments and their agencies, and occasionally to individuals. For-profit organizations are eligible to receive awards under financial assistance programs unless specifically excluded by legislation. Under the President's initiative, faith-based organizations that are otherwise eligible and believe they can contribute to HRSA's program objectives are urged to consider these grant offerings.

Funding Availability and Estimated Amount of Competition

The funding level listed is provided only as an estimate, and is subject to the availability of funds, congressional action, and changing program priorities.

Funding Priorities and/or Preferences

Funding preferences, priorities, and special considerations may come from legislation, regulations, or HRSA. They are not the same as review criteria. Funding preferences are factors that are used to place a grant application recommended for approval by a review committee ahead of other applications that do not have the preference. Some programs give preference, for example, to organizations which have specific capabilities such as telemedicine networking, or have established relationships with managed care organizations. Funding priorities are factors that cause a grant application to receive a fixed number of extra rating points—which may affect the order of applicants on a funding list. Special considerations are other factors that add merit to an application, though they are neither review criteria, preferences, or priorities. Some examples of special consideration factors include ensuring that there is an equitable geographic distribution of grant recipients, or meeting requirements for urban and rural proportions.

Letter of Intent

To help in planning the application review process, many HRSA programs request a letter of intent from the applicant in advance of the application deadline. Letters of intent are neither binding nor mandatory. Details on where to send letters can be found in the guidance materials contained in the application kit.

Matching Requirements

Several HRSA programs require a matching amount, or percentage of the total project support, to come from sources other than Federal funds. Matching requirements are generally mandated in the authorizing legislation for specific categories. Also, matching or other cost-sharing requirements may be administratively required by the awarding office. Such requirements are set forth in the application kit.

Project Period

The project period is the total time for which support of a discretionary project has been programmatically approved. It usually consists of a series of budget periods of one-year duration. Once approved through initial review, continuation of each successive budget period is subject to satisfactory performance, availability of funds, and program priorities.

Review Criteria

The following are generic review criteria applicable to HRSA programs:

• The estimated costs to the Government of the project are reasonable considering the level and complexity of activity and the anticipated results.

• Project personnel or prospective fellows are well qualified by training and/or experience for the support sought, and the applicant organization or the organization to provide training to a fellow have adequate facilities and manpower.

• Insofar as practical, the proposed activities (scientific or other), if well executed, are capable of attaining project objectives.

• The project objectives are capable of achieving the specific program objectives defined in the program announcement and the proposed results are measurable.

• The method for evaluating proposed results includes criteria for determining the extent to which the program has achieved its stated objectives and the extent to which the accomplishment of objectives can be attributed to the program.

• Insofar as practical, the proposed activities, when accomplished, are replicable, national in scope and include plans for broad dissemination.

The specific review criteria used to review and rank applications are included in the individual guidance material provided with the application kits. Applicants should pay strict attention to addressing these criteria, as they are the basis upon which their applications will be judged by the reviewers.

Technical Assistance

A contact person is listed for each program and his/her e-mail address and telephone number is provided. Some programs have scheduled workshops and conference calls. If you have questions concerning individual programs or the availability of technical assistance, please contact the person listed. Also check your application materials and the HRSA web site at http://www.hrsa.gov/ for the latest technical assistance information.

Frequently Asked Questions

1. Where Do I Submit Grant Applications?

The address for submitting your grant application will be shown in the guidance document included in the application kit.

2. How Do I Learn More About a Particular Grant Program?

If you want to know more about a program before you request an application kit, an e-mail/telephone contact is listed. This contact person can provide information concerning the specific program's purpose, scope and goals, and eligibility criteria. Usually, you will be encouraged to request the application kit so that you will have clear, comprehensive, and accurate information available to you. When requesting application materials, you must state the CFDA Number and title of the program. The application kit lists telephone numbers for a program expert and a grants management specialist who will provide information about your program of interest if you are unable to find the information within the written materials provided.

In general, the program contact person provides information about the specific grant offering and its purpose, and the grants management specialist provides information about the grant mechanism and business matters, though their responsibilities often overlap. Information specialists at the toll-free number listed on the applications administer mailings and provide only basic information.

3. The Dates Listed in the Federal Register and the Dates in the Application Kit Do Not Agree. How Do I Know Which Is Correct?

Federal Register dates for application kit availability and application receipt deadlines are based upon the best known information at the time of publication, often nine months in advance of the competitive cycle. Occasionally, the grant cycle does not begin as projected and dates must be adjusted. The deadline date stated in your application kit is generally correct. If the application kit has been made available and subsequently the date changes, notification of the change will be mailed to known recipients of the application kit, and also posted on the HRSA home page.

4. Are Programs Announced in the Federal Register Ever Canceled?

Infrequently, announced programs may be withdrawn from competition. If this occurs, a cancellation notice will be provided through the HRSA homepage at http://www.hrsa.dhhs.gov. If practicable, an attempt will be made to notify those who have requested a kit for the canceled program by mail.

If you have additional questions, please contact Mark Wheeler of the Grants Management Branch at (301) 443-6880 (mwheeler@hrsa.gov).

Kids into Health Careers Initiative

The Bureau of Health Professions announces a new initiative to increase diversity and cultural competency of the health professions workforce. The Kids Into Health Careers initiative is designed to expand the pool of qualified and interested applicants from minority and disadvantaged populations. The Bureau encourages applicants to participate in the Kids Into Health Careers initiative by working with primary and secondary schools that have a high percentage of minority and disadvantaged students. Participation would include establishing linkages with one or more elementary, middle, or high schools with a high percentage of minority and disadvantaged students to: (1) Inform students and parents about health careers and financial aid to encourage interest in health careers; (2) promote rigorous academic course work to prepare for health professions training; or (3) provide support services such as mentoring, tutoring, counseling, after school programs, summer enrichment, and college visits. All recipients of Bureau of Health Professions grants will receive a packet of information and guidance materials that can be used in working with local school systems. Kids Into Health Careers Initiative information may also be obtained on the Bureau of Health Professions Website at http://www.hrsa.gov/bhpr/.

Physician Assistant Training in Primary Care 93.886

Legislative Authority: Public Health Service Act, Title VII, Section 747(a)(5), 42 U.S.C. 293k.

Purpose: Grants are awarded for projects for the training of physician assistants and for the training of individuals who will teach in physician assistant training programs. The program assists schools to meet the costs of projects to plan, develop, and operate or maintain such programs.

Eligibility: Accredited schools of medicine, osteopathic medicine, or other public or private nonprofit entities are eligible to apply. Eligible physician assistant training programs are those which are accredited by the Accreditation Review Commission on Education for the Physician Assistant (ARC-PA) or its successor organization, the Commission on Accreditation of Allied Health Education Programs (CAAHEP) and meet the criteria set forth in sec. 799B(3) 42 USC 295p(3).

Funding Priorities and/or Preferences: As provided in section 791(a) of the Public Health Service Act, preference will be given to any qualified applicant that: (1) Has a high rate for placing graduates in practice settings having the principal focus of serving residents of medically underserved communities; or (2) during the 2-year period preceding the fiscal year for which such an award is sought, has achieved a significant increase in the rate of placing graduates in such settings. This statutory general preference will only be applied to applications that rank above the 20th percentile of applications recommended for approval by the peer review group. A priority will be offered to applicants that can demonstrate a record of training individuals from disadvantaged backgrounds (including racial/ethnic minorities underrepresented in primary care practice).

Special Consideration: Special consideration will be given in awarding grants to projects which prepare practitioners to care for underserved populations and other high risk groups such as the elderly, individuals with HIV/AIDS, substance abusers, homeless individuals, and victims of domestic violence.

Review Criteria: Review criteria are included in the application kit.

Estimated Amount of This Competition: $450,000.

Estimated Number of Awards: 3.

Estimated or Average Size of Each Award: $150,000.

Estimated Project Period: 3 years.

CFDA Number: 93.886.

Application Availability Date: Approximately January 18, 2002.

Application Deadline: March 11, 2002.

Projected Award Date: June 28, 2002.

Program Contact Person: Ellie Grant.

Phone Number: (301) 443-5404.

E-mail: egrant@hrsa.gov.

Predoctoral Training in Primary Care (Family Medicine, General Internal Medicine/General Pediatrics) 93.896

Legislative Authority: Public Health Service Act, Title VII, section 747(a)(1), 42 U.S.C. 293k.

Purpose: Grants are awarded to assist schools of medicine or osteopathic medicine in meeting the costs of projects to plan, develop, and operate or participate in, an approved predoctoral training program in the field of family medicine, general internal medicine, and general pediatrics. Proposed projects are encouraged to seek to expand and enhance the quality of predoctoral initiatives: (1) Innovation, (2) Comprehensive Models, and (3) Establishment and Expansion of Required Clerkships.

Eligibility: Any accredited public or nonprofit private school of allopathic medicine or osteopathic medicine is eligible to apply.

Funding Priorities and/or Preferences: Statutory Funding Preference: As provided in section 791(a) of the Public Health Service Act, preference will be given to any qualified applicant that: (1) Has a high rate for placing graduates in practice settings having the principal focus of serving residents of medically underserved communities; or (2) during the 2-year period preceding the fiscal year for which such an award is sought, has achieved a significant increase in the rate of placing graduates in such settings. This statutory general preference will only be applied to applications that rank above the 20th percentile of applications recommended for approval by the peer review group.

Special Consideration: Special consideration will be given to projects which prepare practitioners to care for underserved populations and other high risk groups such as the elderly, individuals with HIV/AIDS, substance abusers, homeless individuals, and victims of domestic violence.

Review Criteria: Review criteria are included in the application kit.

Estimated Amount of This Competition: Family Medicine, $2,500,000; General Internal Medicine/General Pediatrics, $1,000,000.

Estimated Number of Awards: Family Medicine, 17; General Internal Medicine/General Pediatrics, 7.

Estimated or Average Size of Each Award: Family Medicine, $145,000; General Internal Medicine/General Pediatrics, $145,000.

Estimated Project Period: Family Medicine, 3 years; General Internal Medicine/General Pediatrics, 3 years.

CFDA Number: 93.896.

Application Availability Date: Approximately January 18, 2002.

Letter of Intent Deadline: February 18, 2002.

Application Deadline: April 3, 2002.

Projected Award Date: July 31, 2002.

Program Contact Person: Brenda Williamson.

Phone Number: (301) 443-1467.

E-mail: bwilliamson@hrsa.gov.

Residency Training in Primary Care (Family Medicine, General Internal Medicine/General Pediatrics) 93.884

Legislative Authority: Public Health Service Act, Title VII, section 747, 42 U.S.C. 293k.

Purpose: Grants are awarded to assist family medicine, general internal medicine, and general pediatrics residency programs to expand and enhance the quality of training programs that prepare graduates to enter primary care practice. Residency training programs are encouraged to emphasize national innovations aimed at primary care residency education across disciplines.

Eligibility: Accredited public or private nonprofit schools of allopathic medicine or osteopathic medicine, or public or private nonprofit hospitals, or other public or private nonprofit entities are eligible. Each allopathic program must be fully or provisionally accredited by the Accreditation Council for Graduate Medical Education. Each osteopathic program must be approved by the American Osteopathic Association.

Funding Priorities and/or Preferences: Statutory Funding Preference: As provided in section 791(a) of the Public Health Service Act, preference will be given to any qualified applicant that: (1) Has a high rate for placing graduates in practice settings having the principal focus of serving persons residing in medically underserved communities; or (2) during the 2-year period preceding the fiscal year for which such an award is sought, has achieved a significant increase in the rate of placing residency graduates in such settings. This statutory general preference will only be applied to applications that rank above the 20th percentile of applications recommended for approval by the peer review group.

A funding priority will be made available for applicants that have a record of training the greatest percentage of providers or that have demonstrated significant improvements in the percentage of providers which enter and remain in primary care practice. A second priority will be offered to applicants who can demonstrate a record of training individuals from disadvantaged backgrounds (including racial/ethnic minorities underrepresented in primary care practice).

Special Consideration: Special consideration will be given to projects that prepare practitioners to care for underserved populations and other high risk groups (i.e., the elderly, individuals with HIV/AIDS, substance abusers, homeless individuals, and victims of domestic violence).

Review Criteria: Review criteria are included in the application kit.

Estimated Amount of This Competition: Family Medicine, $2,900,000; General Internal Medicine/General Pediatrics, $2,000,000.

Estimated Number of Awards: Family Medicine, 19; General Internal Medicine/General Pediatrics, 13.

Estimate or Average Size of Each Award: Family Medicine, $150,000; General Internal Medicine/General Pediatrics, $150,000.

Estimated Project Period: Family Medicine, 3 years; General Internal Medicine/General Pediatrics, 3 years.

CFDA Number: 93.884.

Application Availability Date: Approximately January 18, 2002.

Application Deadline: March 18, 2002.

Projected Award Date: July 31, 2002.

Program Contact Person: Shane Rogers; Ed Spirer.

Phone Number: (301) 443-1467.

E-mail: srogers@hrsa.gov, espirer@hrsa.gov.

Residencies in The Practice of Pediatric Dentistry 93.248 and Residencies and Advanced Education in The Practice of General Dentistry 93.897

Legislative Authority: Public Health Service Act, Title VII, section 747(a)(6), 42 U.S.C. 293k.

Purpose: These programs will provide grants to assist schools in planning, developing, or operating programs, to increase the number of training opportunities, and to provide financial assistance to residents in post-doctoral general and pediatric dentistry. These programs encourage: (1) Practice in underserved areas; (2) provision of a broad range of pediatric and/or general practice dental services; (3) coordination and integration of care; (4) meeting the needs of special populations; and (5) recruitment and retention of underrepresented minorities. Applicants are encouraged to describe the manner in which the graduates of general dentistry residency will be well trained in meeting the treatment needs of the pediatric/general patient populations. All applications will be reviewed together as a single group during the peer review process.

Eligibility: Eligible applicants for a grant for residency training in the practice of pediatric or general dentistry include entities that have programs in dental schools, approved residency programs in the pediatric or general practice of dentistry, or approved advanced education programs in the pediatric or general practice of dentistry.

Funding Priorities and/or Preferences: As provided in section 791(a) of the Public Health Service Act, preference will be given to any qualified applicant that: (1) Has a high rate for placing graduates in practice settings and has the principal focus of serving residents of medically/dentally underserved communities; or (2) during the 2-year period preceding the fiscal year for which an award is sought, has achieved a significant increase in the rate of placing graduates in such settings. This statutory general preference will only be applied to applications that rank above the 20th percentile of applications recommended for approval by the peer review group.

Priority will be given to qualified applicants that have a record of training the greatest percentage of providers, or that have demonstrated significant improvements in the percentage of providers which enter and remain in general or pediatric dentistry.

Priority will be given to qualified applicants that have a record of training individuals who are from disadvantaged backgrounds (including racial and ethnic minorities underrepresented in general or pediatric dentistry).

An administrative priority will be given to new programs that have enrollees and no graduates at the time of application, and newly initiated programs that have neither enrollees nor graduates at the time of application.

Special Consideration: Special consideration will be given to projects that prepare practitioners to care for underserved populations and other high risk groups such as the elderly, individuals with HIV/AIDS, substance abusers, homeless individuals, and victims of domestic violence.

Review Criteria: Review criteria are included in the application kit.

Estimated Amount of This Competition: $1,000,000.

Estimated Number of Awards: 9.

Estimate or Average Size of Each Award: $110,000.

Estimated Project Period: 3 years.

CFDA Numbers: General Dentistry, 93.897; Pediatric Dentistry, 93.248.

Application Availability Date: Approximately January 18, 2002.

Application Deadline: March 25, 2002.

Projected Award Date: July 31, 2002.

Program Contact Person: Susan Goodman, DDS.

Phone Number: (301) 443-6326.

E-mail: sgoodman@hrsa.gov.

Academic Administrative Units in Primary Care (Family Medicine) 93.984

Legislative Authority: Public Health Service Act, Title VII, section 747(b), 42 U.S.C. 293k.

Purpose: Title VII authorizes funds to establish or expand teaching capacity in family medicine. Grant support is awarded to meet the costs of projects to establish, maintain, or improve academic administrative units (which may be departments, divisions, or other units) to provide clinical instruction in family medicine. Applications are being solicited for projects to address one or more of the following program purposes: (1) To establish an academic unit, (2) to expand an academic unit, or (3) to develop research infrastructure within an academic unit.

Eligibility: Public or private nonprofit accredited schools of allopathic medicine or osteopathic medicine are eligible to apply.

Funding Priorities and/or Preferences: Statutory Funding Preferences: (1) As provided in section 791(a) of the Public Health Service Act, preference will be given to any qualified applicant that: (A) Has a high rate for placing graduates in practice settings having the principal focus of serving residents of medically underserved communities; or (B) during the 2-year period preceding the fiscal year for which such an award is sought, has achieved a significant increase in the rate of placing graduates in such settings. This statutory general preference will only be applied to applications that rank above the 20th percentile of applications recommended for approval by the peer review group.

(2) A second preference is offered to qualified applicants for the establishment or the substantial expansion of an academic unit.

A priority will be available to those applicants that demonstrate collaborative projects between departments of primary care. The collaboration should involve the academic administrative units of any two disciplines of family medicine, general internal medicine, and general pediatrics. There is a second priority (administrative) for proposals that seek to build or enhance the research infrastructure of the academic administrative unit.

Special Consideration: Special consideration will be given to projects which prepare practitioners to care for underserved populations and other high risk groups such as the elderly, individuals with HIV/AIDS, substance abusers, homeless individuals, and victims of domestic violence.

Review Criteria: Review criteria are included in the application kit.

Estimated Amount of This Competition: Family Medicine, $3,300,000.

Estimated Number of Awards: 22.

Estimate or Average Size of Each Award: $150,000.

Estimated Project Period: 3 years.

CFDA Number: 93.984.

Application Availability Date: Approximately January 18, 2002.

Application Deadline: April 8, 2002.

Projected Award Date: August 30, 2002.

Program Contact Person: Lafayette Gilchrist.

Phone Number: (301) 443-1467.

E-mail: lgilchrist@hrsa.gov.

Faculty Development Training in Primary Care (Family Medicine, General Internal Medicine/General Pediatrics) 93.895

Legislative Authority: Public Health Service Act, Title VII, section 747(a)(3), 42 U.S.C. 293k.

Purpose: Grants are awarded to plan, develop, and operate a program for the training of physicians who plan to teach in family medicine (including geriatrics), general internal medicine, general pediatrics, and to provide financial assistance (in the form of traineeships and fellowships) to physicians who are participating in any such program.

Eligibility: Accredited schools of medicine or osteopathic medicine, public or private nonprofit hospitals, or other public or private nonprofit entities are eligible to apply.

Funding Priorities and/or Preferences: Statutory Funding Preference: As provided in section 791(a) of the Public Health Service Act, preference will be given to any qualified applicant that: (1) Has a high rate for placing graduates in practice settings having the principal focus of serving residents of medically underserved communities; or (2) during the 2-year period preceding the fiscal year for which such an award is sought, has achieved a significant increase in the rate of placing graduates in such settings. This statutory general preference will only be applied to applications that rank above the 20th percentile of applications recommended for approval by the peer review group.

Special Consideration: Special consideration will be given to projects which prepare practitioners to care for underserved populations and other high risk groups such as the elderly, individuals with HIV/AIDS, substance abusers, homeless individuals, and victims of domestic violence.

Review Criteria: Review criteria are included in the application kit.

Estimated Amount of This Competition: Family Medicine, $2,800,000; General Internal Medicine/General Pediatrics, $2,000,000.

Estimated Number of Awards: Family Medicine, 18; General Internal Medicine/General Pediatrics, 13.

Estimated or Average Size of Each Award: Family Medicine, $156,000; General Internal Medicine/General Pediatrics, $156,000.

Estimated Project Period: Family Medicine, 3 years; General Internal Medicine/General Pediatrics, 3 years.

CFDA Number: 93.895.

Application Availability Date: Approximately January 18, 2002.

Application Deadline: March 25, 2002.

Projected Award Date: July 31, 2002.

Program Contact Person: Martha Evans; Elsie Quinones.

Phone Number: (301) 443-1467.

E-mail: mevans@hrsa.gov, equinones@hrsa.gov.

Public Health Training Centers Grant Program 93.249

Legislative Authority: Public Health Service Act, Title VII, section 766, 42 U.S.C. 295a.

Purpose: The goal of the Public Health Training Centers Grant Program is to improve the Nation's public health system by strengthening the technical, scientific, managerial, and leadership competencies and capabilities of the current and future public health workforce. Emphasis is placed on developing the existing public health workforce as a foundation for improving the infrastructure of the public health system and helping achieve the Healthy People 2010 Objectives. Public health training center applicants must agree to: (1) Specifically designate a geographic area, including medically underserved populations, e.g., elderly, immigrants/refugees, disadvantaged, to be served by the Center that shall be in a location removed from the main location of the teaching facility of the school participating in the program with such Center; (2) assess the public health personnel needs of the area to be served by the Center and assist in the planning, development, and delivery of training programs to meet such needs; (3) establish or strengthen field placements for students in public or nonprofit private public health agencies or organizations; and (4) involve faculty members and students in collaborative projects to enhance public health services to medically underserved communities.

Eligibility: Eligible applicants include accredited schools of public health or other public or nonprofit private institutions accredited for the provision of graduate or specialized training in public health.

Funding Priorities and/or Preferences: In awarding grants under this authority, the Secretary will give preference to accredited schools of public health.

Review Criteria: Review criteria are included in the application kit.

Estimated Amount of This Competition: $5,000,000.

Estimated Number of Awards: 8-10.

Estimated or Average Size of Each Award: $350,000.

Estimated Project Period: 5 years.

CFDA Number: 93.249.

Application Availability Date: Approximately January 18, 2002.

Application Deadline: April 22, 2002.

Projected Award Date: August 30, 2002.

Program Contact Person: John R. Kress.

Phone Number: (301) 443-6864.

E-mail: jkress@hrsa.gov.

Public Health Traineeship Grants 93.964

Legislative Authority: Public Health Service Act, Title VII, section 767, 42 U.S.C. 295b.

Purpose: The Public Health Traineeship Grants are awarded to accredited schools of public health, and to other public or nonprofit private institutions accredited for the provision of graduate or specialized training in public health, to provide traineeships to individuals pursuing a course of study in a public health profession in which there is a severe shortage of health professionals (including the fields of epidemiology, environmental health, biostatistics, toxicology, nutrition, and maternal and child health). Traineeships are used to assist students in the cited public health professions where there are documented shortages and to prepare graduates for employment in underserved areas.

Eligibility: Eligible applicants include: (1) Accredited schools and programs of public health and other appropriate public or nonprofit private institutions accredited by the Council on Education for Public Health; and (2) other public or nonprofit private institutions accredited by a body recognized for this purpose by the Secretary of the Department of Education.

Estimated Amount of This Competition: 1,822,957.

Estimated Number of Awards: 33.

Estimated or Average Size of Each Award: $55,241.

Estimated Project Period: 1 year.

CFDA Number: 93.964.

Application Availability Date: Approximately January 18, 2002.

Application Deadline: March 11, 2002.

Projected Award Date: May 31, 2002.

Program Contact Person: Maurice Davis.

Phone Number: (301) 443-6853.

E-mail: mdavis2@hrsa.gov.

Health Education and Training Centers 93.189

Legislative Authority: Public Health Service Act, Title VII, section 752 (42 U.S.C. 294b).

Purpose: Grants are awarded to support projects that address the persistent and unmet health care needs in States along the border between the United States and Mexico and in the State of Florida, and in other urban and rural areas with populations with serious unmet health care needs. The HETC program emphasizes: (1) Use of community-based approaches to improve the health status and life expectancy of low-income and minority populations in severely underserved areas, (2) educational incentives to train students and attract and retain health care personnel, and (3) health promotion and disease prevention strategies that integrate public health and health education services in the areas described.

Matching Requirements: Grantees must provide matching funds from non-Federal sources (directly or through donations from public or private entities, in cash or in-kind) in an amount not less than 25 percent of the total operating costs of the HETC project.

Eligibility: Public or private nonprofit, accredited schools of medicine and osteopathic medicine, and incorporated consortia of such schools or the parent institution of such schools are eligible applicants. In States in which no area health education centers program is in operation, an accredited school of nursing is also an eligible applicant. The academic institution shall collaborate with 2 or more disciplines.

Funding Priorities and/or Preferences: As provided in section 791 (a) of the Public Health Service Act, preference will be given to any qualified applicant that: (1) Has a high rate for placing graduates in practice settings having the principal focus of serving residents of medically underserved communities; or (2) during the 2-year period preceding the fiscal year for which an award is sought, has achieved a significant increase in the rate of placing graduates in such settings. This statutory general preference will only be applied to applications that rank above the 20th percentile of applications recommended for approval by the peer review group. Fifty percent of the appropriated funds will be made available for approved applications for HETCs in States along the border between the United States and Mexico and in the State of Florida. The remaining 50 percent shall be made available for approved applications for HETCs from non-border areas (both urban and rural). The amount allocated for each approved border HETC application will be determined in accordance with a formula. Approved non-border HETC applications scored in the lowest 25th percentile may be partially funded or may not be funded. Funding decisions on approved non-border HETC applications will be based on consideration of geographic distribution of the awards. If funds remain available after all approved applications in either the border area/Florida category or the non-border area category are funded, the balance will be utilized for approved applications in the other category.

Review Criteria: Review criteria are included in the application kit.

Estimated Amount of this Competition: $3,800,000.

Estimated Number of Awards: 14.

Estimated or Average Size of Each Award: $275,000.

Estimated Project Period: 3 years.

CFDA Number: 93.189.

Application Availability Date: Approximately January 18, 2002.

Application Deadline: April 29, 2002.

Projected Award Date: August 30, 2002.

Program Contact Person: Louis D. Coccodrilli, MPH.

Phone Number: (301) 443-6950.

E-mail: lcoccodrilli@hrsa.gov.

Allied Health Projects 93.191

Legislative Authority: Public Health Service Act, Title VII, section 755, 42 U.S.C. 294e.

Purpose: Grants are awarded to assist eligible entities in meeting the costs associated with expanding or establishing programs that will: (1) Expand enrollments in allied health disciplines that are in short supply or whose services are most needed by the elderly; (2) provide rapid transition training programs in allied health fields to individuals who have baccalaureate degrees in health-related sciences; (3) establish community-based training programs that link academic centers to rural clinical settings; (4) provide career advancement training for practicing allied health professionals; (5) expand or establish clinical training sites for allied health professionals in medically underserved or rural communities in order to increase the number of individuals trained; (6) develop curriculum that will emphasize knowledge and practice in the areas of prevention and health promotion, geriatrics, long-term care, home health and hospice care, and ethics; (7) expand or establish interdisciplinary training programs that promote the effectiveness of allied health practitioners in geriatric assessment and the rehabilitation of the elderly; (8) expand or establish demonstration centers to emphasize innovative models to link allied health, clinical practice, education, and research; and (9) meet the costs of projects to plan, develop, and operate or maintain graduate programs in behavioral and mental health practice.

Eligibility: Eligible entities are health professions schools, academic health centers, State or local governments, or other public or private nonprofit entities. Eligible academic institutions are also required to use funds in collaboration with two or more disciplines.

Funding Priorities and/or Preferences: As provided in section 791(a) of the Public Health Service Act, preference will be given to any qualified applicant that: (1) Has a high rate for placing graduates in practice settings having the focus of serving residents of medically underserved communities; or (2) during the 2-year period preceding the fiscal year for which such an award is sought, has achieved a significant increase in the rate of placing graduates in such settings. This statutory general preference will only be applied to applications that rank above the 20th percentile of applications recommended for approval by the peer review group. A preference will be given to those new programs that meet at least four of the criteria described in section 791(c)(3) of the Public Health Service Act concerning medically underserved communities and populations so that new applicants may also compete equitably. A funding priority will be given to qualified applicants who provide community-based training experiences designed to improve access to health care services in underserved areas. Such applicants may include Asian-American and Pacific Islander Serving Institutions, Hispanic Serving Institutions, Historically Black Colleges and Universities, Tribal Colleges, and Universities serving American Indians and Alaska Natives, or an institution that collaborates with one or more of the above listed institutions (President's Executive Orders 12876, 12900, 13021, and 13125).

Review Criteria: Review criteria are included in the application kit.

Estimated Amount of This Competition: $1,500,000.

Estimated Number of Awards: 13.

Estimated or Average Size of Each Award: $115,000.

Estimated Project Period: 3 years.

CFDA Number: 93.191.

Application Availability Date: Approximately January 18, 2002.

Application Deadline: March 4, 2002.

Projected Award Date: June 28, 2002.

Program Contact Person: Young Song.

Phone Number: (301) 443-3353.

E-mail: ysong@hrsa.gov.

Geriatric Education Centers 93.969

Legislative Authority: Public Health Service Act, Title VII, section 753(a), 42 U.S.C. 294c.

Purpose: Grants are given to support the development of collaborative arrangements involving several health professions schools and health care facilities. These arrangements, called Geriatric Education Centers (GECs), facilitate training of health professional faculty, students, and practitioners in the diagnosis, treatment, prevention of disease, disability, and other health problems of the aged. Projects supported under these grants must offer training involving four or more health professions, one of which must be allopathic or osteopathic medicine. Health professions include allopathic physicians, osteopathic physicians, dentists, optometrists, podiatrists, pharmacists, nurses, nurse practitioners, physician assistants, chiropractors, clinical psychologists, health administrators, and allied health professionals including professional counselors and social workers.

These projects must address one or more of the following statutory purposes: (1) Improve the training of health professionals in geriatrics, including geriatric residencies, traineeships or fellowships; (2) develop and disseminate curricula relating to the treatment of the health problems of elderly individuals; (3) support the training and retraining of faculty to provide instruction in geriatrics; (4) support continuing education of health professionals who provide geriatric care; and (5) provide students with clinical training in geriatrics in nursing homes, chronic and acute disease hospitals, ambulatory care centers, and senior centers.

Eligibility: Grants may be made to accredited health professions schools as defined by section 799B(1) (3) or (4) and section 801(2) of the PHS Act, which includes, among others, schools of medicine, schools of dentistry, schools of osteopathic medicine, schools of pharmacy, schools of optometry, schools of podiatric medicine, schools of veterinary medicine, schools of public health, and schools of chiropractic. Grants may also be made to accredited graduate programs in clinical psychology, clinical social work, health administration, and behavioral health and mental health practice as defined in 799(B)(1)(B)-(E). Programs for the training of physician assistants as defined by section 799(B)(3), or schools of allied health as defined by section 799B(4), or schools of nursing as defined by section 801(2) may also apply. Applicants must be located in the United States, the District of Columbia, the Commonwealth of Puerto Rico, the Commonwealth of the Northern Mariana Islands, the Virgin Islands, Guam, American Samoa, the Republic of Palau, the Republic of the Marshall Islands, or the Federated States of Micronesia.

Funding Priorities and/or Preferences: As provided in section 791(a) of the Public Health Service Act, preference will be given to any qualified applicant that: (1) Has a high rate for placing graduates in practice settings having the focus of serving residents of medically underserved communities or (2) during the 2-year period preceding the fiscal year for which such an award is sought, has achieved a significant increase in the rate of placing graduates in such settings. This statutory general preference will only be applied to applications that rank above the 20th percentile of applications recommended for approval by the peer review group. So that new applicants may compete equitably, a preference will be given to those new programs that meet at least four of the criteria described in section 791(c)(3) of the Public Health Service Act concerning medically underserved communities and populations.

A funding priority will be given to qualified applicants who devote significant resources to support the training and retraining of faculty to provide instruction in geriatrics.

Review Criteria: Review criteria are included in the application kit.

Estimated Amount of This Competition: 4,000,000.

Estimated Number of Awards: 12.

Estimated or Average Size of Each Award: $200,000 for single applications and $400,000 for consortium applications.

Estimated Project Period: 5 years.

CFDA Number: 93.969.

Application Availability Date: Approximately January 18, 2002.

Application Deadline: March 25, 2002.

Projected Award Date: July 12, 2002.

Program Contact Person: Barbara Broome.

Phone Number: (301) 443-6866.

E-mail: jweiss@hrsa.gov.

Geriatric Academic Career Awards 93.250

Legislative Authority: Public Health Service Act, Title VII, section 753(c), 42 U.S.C. 294c.

Purpose: The purpose of this program is to increase the number of junior faculty in geriatrics at accredited schools of medicine and osteopathic medicine and to promote their careers as academic geriatricians. Award recipients agree to serve as members of the faculties of accredited schools of allopathic or osteopathic medicine providing teaching services, within the service requirements under this award, for up to 5 years. Prior to submitting an application for the Geriatric Academic Career Award, individuals must have an agreement with an eligible school setting forth the terms and conditions of the award. The agreement with the school must permit the individual to serve as a full-time (as determined by the school) member of the faculty, for not less than the period of the award. As provided in Section 753(c)(5), an individual who receives an award shall provide training in clinical geriatrics, including the training of interdisciplinary teams of health care professionals. The provision of such training shall constitute at least 75 percent of the obligations of the individual under this award. Geriatric career awards are made directly to individuals, not institutions.

Eligibility: Geriatric Academic Career Awards are provided for individuals who meet the following criteria: (1) Are board certified or board eligible in internal medicine, family practice, or psychiatry; (2) have completed an approved fellowship program in geriatrics; and (3) have a junior faculty appointment at an accredited school of medicine (allopathic or osteopathic).

Review Criteria: Review criteria are included in the application kit.

Estimated Amount of This Competition: 1,000,000.

Estimated Number of Awards: 20.

Estimated or Average Size of Each Award: $50,000.

Estimated Number of Awards To Be Made: 20.

Estimated Project Period: 5 years.

CFDA Number: 93.250.

Application Availability Date: Approximately January 18, 2002.

Application Deadline: April 22, 2002.

Projected Award Date: August 16, 2002.

Program Contact Person: Kathleen Bond.

Phone Number: (301) 443-8681.

E-mail: kbond@hrsa.gov.

Geriatric Training for Physicians, Dentists, and Behavioral and Mental Health Professionals 93.156

Legislative Authority: Public Health Service Act, Title VII, section 753(b), 42 USC 294c.

Purpose: The purpose of this program is to increase the number of physicians, dentists, and behavioral and mental health professionals who plan to teach geriatric medicine, geriatric dentistry, or geriatric behavioral and mental health. Supported programs provide training in geriatrics and exposure to the physical and mental disabilities of elderly individuals through a variety of service rotations such as geriatric consultation services, acute care services, dental services, geriatric behavioral and/or mental health units, day and home care programs, rehabilitation services, extended care facilities, geriatric ambulatory care and comprehensive evaluation units, and community care programs for elderly mentally retarded individuals. Programs emphasize the principles of primary care as demonstrated through continuity, ambulatory, preventive, and psychosocial aspects of the practice of geriatric medicine, geriatric dentistry, and geriatric behavioral and mental health. Projects provide training in geriatrics through two-year fellowship programs and/or 1-year retraining programs. Learning components for 2-year fellows include clinical, research, administration and teaching. A minimum of three fellows—one from each discipline—is required for each program each year.

Eligibility: Schools of medicine, schools of osteopathic medicine, teaching hospitals, and graduate medical education programs.

Funding Priorities and/or Preferences: Statutory Funding Preferences: As provided in section 791(a) of the Public Health Service Act, preference will be given to any qualified applicant that: (A) Has a high rate for placing graduates in practice settings having the focus of serving residents of medically underserved communities or (B) during the two-year period preceding the fiscal year for which such an award is sought, has achieved a significant increase in the rate of placing graduates in such settings. This statutory general preference will only be applied to applications that rank above the 20th percentile of the applications recommended for approval by the peer review group. So that new applicants may compete equitably, a preference will be given to those new programs that meet at least four of the criteria described in section 791(c)(3) of the Public Health Service Act concerning medically underserved communities and populations.

Estimated Amount of This Competition: $5,000,000.

Estimated Number of Awards: 5.

Estimated or Average Size of Each Award: $400,000.

Estimated Project Period: 5 years.

CFDA Number: 93.156.

Application Availability Date: Approximately January 18, 2002.

Application Deadline: April 3, 2002.

Project Award Date: July 12, 2002.

Program Contact Person: Kathleen Bond.

Phone Number: 301-443-8681.

E-mail: kbond@hrsa.gov.

Quentin N. Burdick Program for Rural Interdisciplinary Training 93.192

Legislative Authority: Public Health Service Act, Title VII, section 754, 42 U.S.C. 294d.

Purpose: The goal of this program is to support the education and training of health professions students in rural underserved communities and to improve access to health care in rural areas. In an effort to address the rural health professions workforce needs, this program provides funding for student stipends and for interdisciplinary training projects designed to: (1) Use new and innovative methods to train health care practitioners to provide services in rural areas; (2) demonstrate and evaluate innovative interdisciplinary methods and models designed to provide access to cost-effective comprehensive health care; (3) deliver health care services to individuals residing in rural areas; (4) enhance the amount of relevant research conducted concerning health care issues in rural areas; and (5) increase the recruitment and retention of health care practitioners in rural areas and make rural practice a more attractive career choice for health care practitioners.

Eligibility: Applications will be accepted from health professions schools, academic health centers, State or local governments, or other appropriate public or private nonprofit entities for funding and participation in health professions and nursing training activities. Applications must be jointly submitted by at least two eligible applicants with the express purpose of assisting individuals in academic institutions in establishing long-term collaborative relationships with health care providers in rural areas.

Applicants must designate a rural health care agency or agencies for clinical treatment or training including hospitals, community health centers, migrant health centers, rural health clinics, community behavioral and mental health centers, long-term care facilities, Native Hawaiian health centers or facilities operated by the Indian Health Service or an Indian tribe or tribal organization or Indian organization under a contract with the Indian Health Service under the Indian Self-Determination Act.

Funding Priorities and/or Preferences: Statutory Funding Preference: As provided in section 791(a) of the Public Health Service Act, preference will be given to any qualified applicant that: (1) Has a high rate for placing graduates in practice settings having the principal focus of serving residents of medically underserved communities; or (2) during the 2-year period preceding the fiscal year for which such an award is sought, has achieved a significant increase in the rate of placing graduates in such settings.

This statutory general preference will only be applied to applications that rank above the 20th percentile of applications recommended for approval by the peer review group. So that new applicants may compete equitably, a preference will be given to those new programs that meet at least four of the criteria described in Section 791(c)(3) concerning medically underserved communities and populations.

A funding priority will be given to qualified applicants that have a record of providing community-based training to individuals who are from disadvantaged backgrounds. Such applicants may be Hispanic Serving Institutions, Historically Black Colleges and Universities, and Tribal Colleges and Universities serving Native Americans (President's Executive Orders 12876, 12900, and 13021).

Review Criteria: Review criteria are included in the application kit.

Estimated Amount of This Competition: 3,000,000.

Estimated Number of Awards: 13.

Estimated or Average Size of Each Award: $225,000.

Estimated Project Period: 3 years.

CFDA Number: 93.192.

Application Availability Date: Approximately January 18, 2002.

Application Deadline: March 4, 2002.

Projected Award Date: July 12, 2002.

Program Contact Person: Marcia Starbecker, RN, MSN.

Phone Number: (301) 443-0430.

E-mail: jweiss@hrsa.gov.

Additional Informaton

Exhibit and Conference/Meeting Information

HRSA's exhibit schedule and HRSA-sponsored conferences and meetings can be accessed online at http://www.hrsa.gov/newsroom/calendar.htm. For more information, contact Steve Merrill at smerrill@hrsa.gov.

HRSA's Field Offices

Northeast Cluster

Philadelphia Field Office—Field Director, Vincent C. Rogers, (215) 861-4422.

Boston Field Office—Assistant Field Director, Kenneth Brown, (617) 565-1420.

New York Field Office—Assistant Field Director, Ron Moss, (212) 264-3032.

Southeast Cluster

Atlanta Field Office—Field Director, Ketty M. Gonzalez, (404) 562-7972.

Midwest Cluster

Chicago Field Office—Field Director, Deborah Willis-Fillinger, (312) 353-6835.

Kansas City Field Office—Assistant Field Director, Hollis Hensley, (816) 426-5226.

West Central Cluster

Dallas Field Office—Field Director, Frank Cantu, (214) 767-3872.

Denver Field Office—Assistant Field Director, Jerry Wheeler, (303) 844-3203.

Pacific West Cluster

San Francisco Field Office—Field Director, Thomas Kring, (415) 437-8090.

Seattle Field Office—Assistant Field Director, Richard Rysdam (Acting), (206) 615-2491.

Related World Wide Web Addresses

HRSA Preview Online

http://www.hrsa.gov/grants.htm

HRSA Home Page

http://www.hrsa.dhhs.gov

DHHS Home Page

http://www.os.dhhs.gov

Grantsnet

http://www.hhs.gov/progorg/grantsnet/index.html

PHS Grants Policy Statement

http://www.nih.gov/grants/policy/gps

Catalog of Federal Domestic Assistance (CFDA)

http://www.gsa.gov/fdac

Code of Federal Regulations

http://www.access.gpo.gov/nara/cfr/cfr-table-search.html

OMB Circulars

http://www.whitehouse.gov/WH/EOP/omb

http://www.whitehouse.gov/omb/grants/index.html#circulars

Federal Register

http://www.access.gpo.gov/su_docs/aces/aces140.html

Healthfinder

http://www.healthfinder.gov

Fedworld Information Network

http://www.fedworld.gov

State Single Points of Contact (SPOC)

http://thomas.loc.gov

Faith-Based Programs

On January 29, 2001, by Executive Order, the President established a new White House Office of Faith-based and Community Initiatives. The Office has been working to expand the role of faith-based organizations and other community-serving groups that have traditionally been distant from government.

This year, HRSA is participating in an Agency wide review of its grant programs to help assure that its policies and practices do not contain barriers to the participation of faith-based and community groups in appropriate HRSA grant programs.

Faith-based and other community organizations have worked in partnership with HRSA and its grantees in many ways through the years, and have competed for and received grant awards to assist the Agency in improving access to health care for those in need. Faith-based organizations, therefore, are eligible to apply for funds, as are other community groups and non-profit organizations. HRSA will strive to create a “level playing field” for all applicant organizations in the competition for grants and other funding.

HRSA Supports Healthy People 2010

The Health Resources and Services Administration is committed to achieving the health promotion and disease prevention objectives of Healthy People 2010, a national program to reduce morbidity and mortality and improve the quality of life of the American people. The programs included in this document are supportive of many of the Healthy People 2010 areas of emphasis. Grantees and potential grantees are encouraged to be supportive of these areas as well HRSA participates on the Work Groups of all of the 28 Health People 2010 focus areas (chapters) and has the Federal co-lead responsibility for the following six focus areas:

1 Access to quality Health Services

7 Educational and Community-Based Services

13 HIV

16 Maternal, Infant, and Child Health

21 Oral Health

23 Public Health Infrastructure

Copies of Healthy People 2010 and related documents may be purchased from the Superintendent of Documents, ordered over the phone or by fax with a credit card number, or downloaded and/or printed out in entirety or in part at the Healthy People 2010 web site: http://www.health.gov/healthypeople/document. Web site viewers should click on “publications.”

Healthy People 2010 publications may be purchased from the Superintendent of Documents, PO Box 371954, Pittsburgh, PA 15250-7954. By using a credit card, orders may be faxed to 202-512-2250, or phoned to 202-512-1800. Prices quoted include shipping and handling, and are subject to change. Healthy People 2010 publications include:

Healthy People 2010 (second edition; Volume 1, 608 pages, Focus Areas 1-14, includes black and white version of Understanding and Improving Health; Volume II, 664 pages, Focus Areas 15-28). Two-volume set: $70, S/N 017-000-00547-9.

Healthy Peoople 2010: Understanding and Improving Health (second edition; 76 pages four-color version) $10. S/N 017-001-00550-0.

Tracking Healthy People 2010 (996 pages; provides informationon measuring the objectives). $66 S/N 017-001-00548-7.

Healthy People 2010 CD-ROM (contains electronic file of understanding and improving Health, Healthy People 2010, and Tracking Healthy People 2010). $19 S/N 017-001-00549-5.

[FR Doc. 02-2129 Filed 1-24-02; 4:52 pm]

BILLING CODE 4165-15-P